ENVIRONMENTAL PROTECTION AGENCY

[OPP-00763; FRL-6827-4]

Fiscal Year 2002 Tribal Pesticide Project Solicitation; Notice of Availability

AGENCY: Environmental Protection Agency (EPA).

ACTION: Notice.

SUMMARY: The Office of Pesticide Programs (OPP), in coordination with the EPA Regions, is soliciting Tribal pesticide projects for fiscal year (FY) 2002 funding. The total amount of funding available in FY 2002 to be awarded to Tribal governments and/or intertribal consortium for pesticide projects is $445,500.

DATES: Project proposals, identified by docket control number OPP-00763, must be received by EPA Regional staff on or before May 15, 2002.

ADDRESSES: Project proposals may be submitted by mail, fax, or electronically. Please follow the instructions for submissions as provided in Unit I.C. of the SUPPLEMENTARY INFORMATION. To ensure proper receipt by EPA, it is imperative that you identify docket control number OPP-00763 in the subject line on the first page of your proposal.

FOR FURTHER INFORMATION CONTACT: Regina Langton, Office of Pesticide Programs, Environmental Protection Agency, 1200 Pennsylvania Ave., NW., Mail Code 7506C, Washington, DC 20460; telephone number: (703) 305-7161; fax number: (703) 308-1850; e-mail address: langton.regina@epa.gov.

SUPPLEMENTARY INFORMATION:

I. General Information

A. Does this Action Apply to Me?

This action is directed to any federally recognized Tribal government or intertribal consortium eligible to receive federal funds. Only one project proposal may be submitted by each Tribal government or intertribal consortium. If you have any questions regarding the applicability of this action, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. You may also access this document on the Home Page for the Office of Pesticide Programs at http://www.epa.gov/pesticides. Select “What's New.”

C. How and to Whom Do I Submit a Project Proposal?

You may submit a project proposal through the mail, by fax, or electronically to the EPA Tribal Pesticide staff in your Region, as listed below. To ensure proper receipt by EPA, it is imperative that you identify docket control number OPP-00763 in the subject line on the first page of your proposal.

EPA Region I (Connecticut, Maine, New Hampshire, Rhode Island, Vermont)

Rob Koethe, EPA Region I, One Congress St., Suite 1100, (CPT), Boston, MA 02114-2023, telephone: (617) 918-1535, fax: (617) 918-1505, e-mail: koethe.robert@epa.gov.

EPA Region II (New Jersey, New York, Puerto Rico, Virgin Islands)

Adrian Enache, EPA Region II, U.S. EPA Facilities, Raritan Depot, 2890 Woodbridge Avenue, Edison, NJ 08837-3679, telephone: (732) 321-6769, fax: (732) 321-6771, e-mail: enache.adrian@epa.gov.

EPA Region III (Delaware, District of Columbia, Maryland, Pennsylvania, Virginia, West Virginia)

Fatima El Abdaoui, EPA Region III, Chestnut Building (3AT11), Philadelphia, PA 19107,telephone: (215) 814-2129, fax: (215) 814-3114, e-mail: el-abdaoui.fatima@epa.gov.

EPA Region IV (Alabama, Florida, Georgia, Kentucky, Mississippi, North Carolina, South Carolina, Tennessee)

Jeaneanne Gettle, EPA Region IV, 61 Forsyth St., SW., Atlanta, GA 30303, telephone: (404) 562-8979, fax: (404) 562-8972, e-mail: gettle.jeaneanne@epa.gov.

EPA Region V (Illinois, Indiana, Michigan, Minnesota, Minnesota, Ohio, Wisconsin)

Meonii Crenshaw, EPA Region V, 77 West Jackson Boulevard (DRT8J), Chicago, IL 60604-3507,telephone: (312) 353-4716, fax: (312) 353-4788, e-mail: crenshaw.meonii@epa.gov.

EPA Region VI (Arkansas, Louisiana, New Mexico, Oklahoma, Texas)

Jerry Collins, EPA Region VI, 1445 Ross Avenue, Dallas, TX 75202-2733,telephone: (214) 665-7562, fax: (214) 665-7263, e-mail:collins.jerry@epa.gov.

EPA Region VII (Iowa, Kansas, Missouri, Nebraska)

John Tice, EPA Region VII, 100 Centennial Mall N., Room 289, Lincoln, NB 68508,telephone: (402) 437-5080, fax: (402) 323-9079, e-mail: tice.john@epa.gov.

EPA Region VIII (Colorado, Montana, North Dakota, South Dakota, Utah, Wyoming)

Art Roybal, EPA Region VIII, 999 18th St., (8P-P3T), Denver, CO 80202-2466,telephone: (303) 312-6395, fax: (303) 312-6044, e-mail: roybal.art@epa.gov.

EPA Region IX (Arizona, California, Hawaii, Nevada, American Samoa, Guam)

Marcy Katzin, EPA Region IX, 75 Hawthorne St., (CMD-4-3), San Francisco, CA 94105,telephone: (415) 947-4215, fax: (415) 947-3583, katzin.marcy@epa.gov.

EPA Region X (Alaska, Idaho, Oregon, Washington)

Gary McRae, EPA Region X, Idaho Operations Office, 1435 North Orchard St., Boise, ID 83706, telephone: (208) 378-5765, fax: (208) 378-5744, e-mail: mcrae.gary@epa.gov.

Contact the appropriate regional staff person listed above if you need assistance or have questions regarding the creation or submission of a project proposal.

D. What Should I Consider as I Prepare My Project Proposal for EPA?

1. Scope and purpose of the OPP Tribal Pesticide Project Cooperative Agreements. The purpose of Tribal pesticide project cooperative agreements is to provide financial assistance to eligible Tribal governments or intertribal consortium to carry out projects related to human health and the environment that assess or reduce risk from pesticide exposure. Funds can be used for new activities or to further an existing eligible project or program.

2. Eligible applicants and activities—i.Who may submit a project proposal and may an applicant submit more than one? Any federally recognized Tribal government or intertribal consortium eligible to receive Federal funds may submit a project proposal. Only one project proposal may be submitted by each Tribal government or intertribal consortium.

ii. What types of projects are eligible for funding? The Agency will consider projects related to human health and the environment that assess or reduce risk from pesticide exposure. Projects may be targeted to any pesticide concern or need facing a Tribe or intertribal consortium, including:

a. Water quality.

b. Subsistence.

c. Assessment of the need for and/or development of a pesticide management policy or plan.

d. Consideration of integrated pest management, reduced pesticide use, or alternatives to pesticides.

e. Sampling.

f. Effects of pesticides on cultural activities.

g. Education about the use of pesticides in Tribal museum curation.

h. Noxious weed educational materials and/or control alternatives.

i. Public outreach/education materials relating to pest management and/or the safe use, storage and disposal of pesticides.

Water quality work products may be focused on monitoring of surface or ground water (e.g., assessing dietary exposure to pesticides via drinking water, determining those water bodies that may be impaired due to pesticides, predicting potential exposure to endangered and threatened aquatic species, or establishing a baseline of contamination from which to measure progress in the future.) Water quality projects may also include information gathering and development such as a vulnerability assessment, determining the pesticides that are most likely to impact water quality, and/or providing information to pesticide users on ways they can assist in ensuring quality water sources. Finally, water quality work may also focus on the development or implementation of programs aimed at preventing contamination of water sources, mitigating contaminated water sources or implementation of best management practices.

Other types of projects not related to water quality may include the establishment of a Tribal code, a system for the proper disposal of pesticides, and/or educational outreach to the community. Sampling projects may include soil sampling, residue sampling on culturally significant/medicinal plants, or sampling to determine the effects of pesticides on cultural activities, such as subsistence hunting and fishing.

iii. How much money may be requested, and are matching funds required? Maximum funding awarded will not exceed $50,000 per project. Indirect cost rates will not increase the $50,000 maximum funding amount. No matching funds are required.

II. Project Proposal Application Requirements

A. What is Required as Part of the Application Process?

In order to be considered for funding, applicants must submit the following to the regional Tribal pesticide staff contact indicated in Unit I.C.:

1. Project proposal (maximum 6 pages of narrative), including:

i. Name of project.

ii. Tribal project contact (including qualifications).

iii. Project description, including:

• Purpose and goal(s) of the project.

• New or continuing project.

• Environmental or health issues addressed.

• Approach and methods (how the project will be carried out).

• Deliverables.

• Expected/desired outcome.

• Indicators/measures of success.

• Resources and time frame required for project, including beginning and ending dates.

iv. Need for assistance--Provide the following information to the extent it relates to and is relevant to demonstrating the need for the specific project that is proposed:

• A list of other sources of funding you have sought for the project.

• A description of similar, identical, or otherwise relevant work that you have undertaken, including sources of funding for that work.

• A description of Tribal or other studies, surveys and other sources of information that document the environmental issues that will be addressed by the project.

v. Responsible parties and location.

• Identify persons in charge of the project and their qualifications.

• Identify major participants in the project and their qualifications.

• Identify location(s) where the project will be conducted.

vi. External stakeholders.

• Identify those who will be affected by the project and how they will be affected.

• Identify those who will participate in the project and their roles.

vi. Resources.

• Identify any personnel and/or contractors to be involved in the project, including their role and qualifications. Description should include any relevant training or experience. For example, if the project includes sampling and writing of a Sampling and Analysis Plan, describe any experience the person(s) has in writing a Sampling and Analysis Plan, in conducting soil or water sampling, etc.

• Identify existing resources/information that will be used in conducting project.

• Identify any additional resources (including but not limited to training) that will be required for project.

• Describe any EPA training or assistance that will be required for Tribal personnel who will be working on the project. Such training may include the development of outreach material or a Sampling Analysis Plan, etc.

vii. Infrastructure and coordination.

• Identify coordination efforts required to conduct project, within or outside Tribe.

• Identify ways in which this project will improve or build Tribal capacity.

• Identify any assistance you may require in coordinating with other Federal, State or local agencies.

2. Draft workplan (1-2 pages). The submitted draft workplan should outline:

i. Deliverables.

ii. The separate phases of the project.

iiii. The tasks associated with each phase of the project.

iv. The time frames for completion of each phase or task.

v. The name, title of the person(s) who will conduct each phase or task.

vi. The dates when progress reports will be provided to EPA, clearly showing deliverables, accomplishments, delays and/or obstacles. Project costs cannot be incurred until a final workplan has been approved by the appropriate EPA regional office.

3. Estimated budget. The estimated budget should outline costs for personnel, fringe benefits, travel, equipment, supplies, contractual, indirect cost rate, or any other costs associated with the proposed project.

4. Letter or resolution from Tribal Council or Chairperson showing support for and commitment to the project. (If it is not possible to obtain a letter/resolution from the Tribal council or chairperson to submit with your project proposal, an interim letter of explanation must be included with the proposal. The original letter/resolution will still be required prior to project award.)

5. Letter of confirmation for any other funds needed to complete project. If your proposal requires the use of additional funds for leveraging, please include a letter from the funding source confirming that these monies are available for the project. If the budget includes a Tribal in-kind contribution, a letter of confirmation is not needed.

6. Confidential business information. Applicants must clearly mark information considered confidential business information. EPA will make a final confidentiality determination for information the applicant claims as confidential business information in accordance with Agency regulations at 40 CFR part 2, subpart B.

B. When and Where Must Project Proposals be Submitted?

The applicant may submit a project proposal to the appropriate EPA Regional contact by mail, fax, or electronically. The proposal must be received by the EPA Regional contact listed in Unit I.C. no later than close of business May 15, 2002. If the project proposal is submitted by fax or electronically by May 15, 2002, the EPA Regional contact must receive an original copy of the proposal by mail as soon as possible thereafter. Incomplete or late proposals will be disqualified for funding consideration.

III. Process For Awarding Cooperative Agreements

A. How Will Project Proposals be Reviewed and Selected?

Tribal project proposals will be reviewed and approved for validity and completeness by each respective region and then forwarded, along with regional comments, to an OPP review team. The team will consult with regional staff regarding their comments as necessary. If there is money left over after the selection process is completed, the review team will discuss and determine the allocation of the money. Selections will be made by close of business June 15, 2002. EPA reserves the right to reject all applications or initial/final proposals and make no awards. All costs charged to these awards must be allowable under OMB circular A-87.

B. How will Applicants be Notified?

Regions will notify their respective applicants of the selections. Those applicants not awarded funds may request an explanation from EPA regional staff.

IV. Criteria For Awarding Project Cooperative Agreements

Criteria on which the project proposals will be ranked are listed below. Applicants must submit information specified in this solicitation to address the award criteria. Applicants must also provide information specified in this solicitation that will assist both a Tribe and EPA in assessing the Tribe's capacity to do the project work outlined in the project proposal. The workplan and budget should reflect the training and the work that can realistically be accomplished.

Selection criteria: Total possible points: 80

Environmental issues addressed. Does the project proposal identify the environmental and human health benefits associated with the activity? What are the quality of life issues (benefits) gained by the project? [0 to 20 points]

Deliverables/outcome. What are the deliverables expected from this project? What is the environmental outcome of the project? Does the project have limited or broad application to address risks related to pesticides? Does the project proposal clearly state what it expects to achieve or deliver? [0 to 10 points]

Past performance. If the Tribe has received project funding from EPA in the past, was the outcome/deliverable(s) of the project a success? If the project is still ongoing, was progress made? [0 to 10 points]

Impact assessment/indicators. How does the project propose to quantify and measure its success? How will you evaluate the success of the project in terms of measurable environmental results? [0 to 10 points]

Resources and time frame required for project. Can the project be accomplished with available or existing resources (Tribal or Non-tribal) and within the identified time frame? [0 to 10 points]

Tribal project contact(s). Does the person(s) designated to lead the project have technical expertise and experience? If the project contact(s) assigned to this project do not have relevant training or experience, how will the training necessary to ensure successful completion of the project be obtained? [0 to 5 points]

Major participants/external stakeholders. Has the Tribe identified the need for other parties (Tribal or Non-tribal) who will be involved or who will participate in the project? Who will be affected by the outcome of the project? [0 to 5 points]

Coordination/capacity building. Does the applicant understand/acknowledge the need for coordination between Tribal departments and with outside communities, Federal, State or local government? Will the project help build Tribal infrastructure or capacity? [0 to 5 points]

Transferability. Can the project results be incorporated into the Tribe's pesticide program (if the Tribe has one) or future activities? Can any of the deliverables, experiences, products, or outcomes gained as a result of the project be transferred to other communities? Could this project be implemented by another Tribe? [0 to 5 points]

V. Post Selection Activity

Selected applicants must formally apply for funds through the appropriate EPA regional office. In addition, selected applicants must negotiate a final workplan, including reporting requirements, with the designated EPA regional project officer. For more general information on post award requirements and the evaluation of grantee performance, see 40 CFR part 31.

VI. What Action is the Agency Taking?

The Office of Pesticide Programs, in coordination with the EPA regions, is soliciting Tribal pesticide projects for FY 2002 funding. The total amount of funding available in FY 2002 to be awarded to Tribal governments and/or intertribal consortium for pesticide projects is $445,500.

VII. Statutory Authority and Regulations

Sections 23(a) of the Federal Insecticide, Fungicide, and Rodenticide Act (FIFRA) authorize EPA to enter into cooperative agreements with States and Indian Tribes to implement pesticide enforcement programs. Pursuant to the Departments of Veterans Affairs and Housing and Urban Development, and Independent Agencies Appropriations Act for FY 1999, pesticide program implementation grants under section 23(a)(1) of FIFRA are available for “pesticide program development and implementation, including enforcement and compliance activities.”

The award and administration of these grants will be governed by the Uniform Administrative Requirements for Grants and Cooperative Agreements to State and Local Governments set forth at 40 CFR part 31. Grants awarded pursuant to this solicitation are program grants subject to the regulations for “Environmental Program Grants for Tribes” set forth at 40 CFR part 35, subpart B.

VIII. Catalogue of Federal Domestic Assistance

The number assigned to this grant in the Catalogue of Domestic Assistance is 66.500.

IX. Submission to Congress and the Comptroller General

Grant solicitations such as this are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects

Environmental protection.

Dated: March 1, 2002.
Kennan Garvey,
Acting Director, Field and External Affairs Division, Office of Pesticide Programs.

[FR Doc. 02-5448 Filed 3-7-02; 8:45 am]

BILLING CODE 6560-50-S